DEPARTMENT OF HOUSING AND URBAN DEVELOPMENT

[Docket No. FR-4566-N-03]

Notice of Submission of Proposed Information Collection to OMB; Emergency Comment Request Youthbuild Program

AGENCY: Officer of the Assistant Secretary for Community Planning and Development, HUD.

ACTION: Notice.

SUMMARY: The proposed information collection requirement described below has been submitted to the Office of Management and Budget (OMB) for emergency review and approval, as required by the Paperwork Reduction Act. The Department is soliciting public comments on the subject proposal.

DATES: Comments Due Date: April 7, 2000.

ADDRESSES: Interested persons are invited to submit comments regarding this proposal.Comments should refer to the proposal by name or OMB approval number (2506-0142) and should be sent to: Joseph F. Lackey, Jr., HUD Desk Officer, Officer of Management and Budget, New Executive Office Building, Washington, DC 20410 (202) 395-7316.

FOR FURTHER INFORMATION CONTACT: Wayne Eddins, Reports Management Officer, Department of Housing and Urban Development, 451 7th Street, SW, Washington, DC 20410; e-mail Wayne_Eddins@HUD.gov; telephone (202) 708-2374. This is not a toll-free number. Copies of the proposed forms and other available documents submitted to OMB may be obtained from Mr. Eddins, 451 Seventh Street, SW, Washington, DC 20410, telephone (202) 708-5221. This is not a toll-free number. Copies of available documents submitted to OMB may be obtained from Mr. Eddins.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Youthbuild Program.

OMB Control Number, if applicable: 2506-0142.

Description of the need for the information and proposed use: Information collected from NOFA will be used by HUD to select grant awardees as required by the HUD Reform Act. Information collected from reports will be used to monitor and evaluate progress of grantees and programs.

Agency form numbers, if applicable: Youthbuild Application, HUD-40202, SF1199A, HUD-27054.

Members of affected public. Not-for-profit institutions, and state or local governments.

Estimation of the total numbers of hours needed to prepare the information collection including number of respondents, frequency of response, and hours of response:

Number of Respondents: 250.

Frequency of Reports: Semi-annually.

Hours of Response: Hours per response—45.

Status of the proposed information collection: reinstatement, with change, of a previously approved collection for which approval has expired.

Authority: The Paperwork Reduction Act of 1995, 44 U.S.C. Chapter 35, as amended.

Dated: March 27, 2000.
Wayne Eddins,
Reports Management Office Director, Office of the Chief Information Officer.

[FR Doc. 00-8031 Filed 3-30-00; 8:45 am]

BILLING CODE 4210-29-M